DEPARTMENT OF TRANSPORTATION

Federal Aviation Administration

Agency Information Collection Activities: Requests for Comments; Clearance of New Approval of Information Collection: Aircraft Situational Display to Industry (ASDI) Block Requests

AGENCY: Federal Aviation Administration (FAA), DOT.

ACTION: Notice and request for comments.

SUMMARY: In accordance with the Paperwork Reduction Act of 1995, FAA invites public comments about our intention to request the Office of Management and Budget (OMB) approval for a new information collection. A Federal Register Notice for proposed process for limiting aircraft data displayed via ASDI, with a 60-day comment period soliciting comments on the following collection of information was published on May 9, 2012, vol. 77, no. 90, pages 27269-27271. The collected information will be used by the National Air Space Data Release Office to block aircraft flight data as requested by any interested aircraft owner or operator.

DATES: Written comments should be submitted by June 10, 2013.

FOR FURTHER INFORMATION CONTACT: Kathy DePaepe at (405) 954-9362, or by email at: Kathy.A.DePaepe@faa.gov.

SUPPLEMENTARY INFORMATION: OMB Control Number: 2120-XXXX.

Title: Aircraft Situational Display to Industry (ASDI) Block Requests.

Form Numbers: There are no FAA forms associated with this collection of information.

Type of Review: Clearance of a new information collection.

Background: A Policy Notice in the June 3, 2011 Federal Register (76 FR 32258) authorized the FAA to administer a program under which general aviation aircraft owners or operators and on-demand aircraft could have the ability to “block” their aircraft identification information from release into the ASDI data feed. H.R. 2112, the “Consolidated and Further Continuing Appropriations Act, 2012”, and a December 16, 2011 Federal Register notice of interim policy (76 FR 78328) further expanded that authority to allow any interested aircraft owner or operator to simply opt out of the ASDI data feed, by submitting a written request to the FAA's ASDI Program Office.

Respondents: Approximately 6,000 owners and operators.

Frequency: One time per requesting owner/operator.

Estimated Average Burden per Response: 5 minutes.

Estimated Total Annual Burden: 500 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on May 6, 2013.
Albert R. Spence,
FAA Assistant Information Collection Clearance Officer, IT Enterprises Business Services Division, AES-200.

[FR Doc. 2013-11187 Filed 5-9-13; 8:45 am]

BILLING CODE 4910-13-P